DEPARTMENT OF COMMERCE

National Oceanic and Atmospheric Administration

RIN 0648-XC494

Takes of Marine Mammals Incidental to Specified Activities; Taking Marine Mammals Incidental to an Exploration Drilling Program in the Chukchi Sea, Alaska

AGENCY: National Marine Fisheries Service (NMFS), National Oceanic and Atmospheric Administration (NOAA), Commerce.

ACTION: Notice; proposed incidental harassment authorization; extension of comment period.

SUMMARY: On February 22, 2013, NMFS announced notice of its proposed issuance of an Incidental Harassment Authorization (IHA) to ConocoPhillips Company (COP) to take small numbers of marine mammals, by harassment, incidental to conducting offshore exploration drilling on Outer Continental Shelf (OCS) leases in the Chukchi Sea, Alaska. Written comments were due by March 25, 2013. Under the unique circumstances of the timing of the publication of the Federal Register notice relative to several related meetings and other Federal review processes related to this action, NMFS has decided to extend the public comment period by 45 days, to May 9, 2013.

DATES: The public comment period for this action has been extended from March 25 to May 9, 2013. Written comments and information must be received no later than May 9, 2013.

ADDRESSES: Comments on the application should be addressed to Michael Payne, Chief, Permits and Conservation Division, Office of Protected Resources, National Marine Fisheries Service, 1315 East-West Highway, Silver Spring, MD 20910. The mailbox address for providing email comments is ITP.Nachman@noaa.gov. NMFS is not responsible for email comments sent to addresses other than the one provided here. Comments sent via email, including all attachments, must not exceed a 25-megabyte file size.

Instructions: All comments received are a part of the public record and will generally be posted to http://www.nmfs.noaa.gov/pr/permits/incidental.htm without change. All Personal Identifying Information (for example, name, address, etc.) voluntarily submitted by the commenter may be publicly accessible. Do not submit Confidential Business Information or otherwise sensitive or protected information.

FOR FURTHER INFORMATION CONTACT: Candace Nachman, Office of Protected Resources, NMFS, (301) 427-8401.

SUPPLEMENTARY INFORMATION: On February 22, 2013, NMFS announced notice of its proposed issuance of an IHA to COP to take small numbers of marine mammals, by harassment, incidental to conducting offshore exploration drilling on OCS leases in the Chukchi Sea, Alaska, during the 2014 open-water season (78 FR 12542). NMFS convened its annual Open Water Meeting in Anchorage, Alaska, during the public comment period for this action, thus taking away from review time. Moreover, additional Federal agency reviews and documents are being released during this time. The request for additional time on the comment period noted having the ability to review these documents will aid in the review of this proposed IHA notice. Furthermore, this is the first time NMFS is proposing to issue an IHA in the U.S. Chukchi Sea for exploratory drilling with a jack-up rig. NMFS does not anticipate that the comment period extension will delay its decision of whether to issue an IHA.

NMFS refers the reader to the February 22, 2013, Federal Register notice (78 FR 12542) for background information concerning the proposed IHA. The information in the Notice of Proposed IHA is not repeated here. For additional information about the IHA application and associated documents, please visit the Web site at: http://www.nmfs.noaa.gov/pr/permits/incidental.htm.

Dated: March 25, 2013.
Helen M. Golde,
Acting Director, Office of Protected Resources, National Marine Fisheries Service.

[FR Doc. 2013-07176 Filed 3-27-13; 8:45 am]

BILLING CODE 3510-22-P